DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Wells, Maine National Estuarine Research Reserve Management Plan revision.

SUMMARY: Notice is hereby given that the Estuarine Reserves Division, Office of Ocean and Coastal Resource Management, National Ocean Service, National Oceanic and Atmospheric Administration, U.S. Department of Commerce is announcing a thirty day public comment period for the Wells, Maine National Estuarine Research Reserve Management Plan revision. Pursuant to 15 CFR Section 921.33(c), the revised plan meets the reserve's requirements for compliance. The Wells Reserve Management Plan revision will replace the plan approved in 2007.

The revised management plan outlines the administrative structure; the research & monitoring, education, training, and stewardship goals of the reserve; and the plans for future land acquisition and facility development to support reserve operations.

The Wells, Maine National Estuarine Research Reserve takes an integrated approach to management, linking research, education, training and stewardship functions to address high priority issues including the impact of climate change of coastal ecosystems and communities, development pressures, population growth, land-use change, habitat fragmentation, and water quality degradation. Since the last management plan, the reserve implemented its core programs and expanded its monitoring infrastructure to include Sentinel Site protocols; enhanced its facilities, including new Visitor Center exhibits and interpretive trail signs; constructed an environmental chamber for year-round research; and furthered land conservation in the reserve's targeted watersheds.

The revised management plan will serve as the guiding document for the 2,250 acre Wells National Estuarine Research Reserve for the next five years. The Wells National Estuarine Research Reserve Management Plan revision can be viewed at www.wellsreserve.org. Comments can be provided to Paul Dest, Reserve Director at dest@wellsnerr.org.

FOR FURTHER INFORMATION CONTACT: Alison Krepp at (301) 563-7105 or Erica Seiden at (301) 563-1172 of NOAA's National Ocean Service, Estuarine Reserves Division, 1305 East-West Highway, N/ORM5, 10th floor, Silver Spring, MD 20910.

Dated: August 12, 2013.
Christopher C. Cartwright,
Associate Assistant Administrator for Management and CFO/CAO, National Ocean Service, National Oceanic and Atmospheric Administration.

[FR Doc. 2013-19942 Filed 8-15-13; 8:45 am]

BILLING CODE 3510-08-P